BUREAU OF CONSUMER FINANCIAL PROTECTION

[Docket No. CFPB-2012-0003]

Proposed Collection; Comment Request

AGENCY: Bureau of Consumer Financial Protection.

ACTION: Notice and request for public comment.

SUMMARY: The Bureau of Consumer Financial Protection (the “CFPB” or the “Bureau”), as part of its continuing effort to reduce paperwork and respondent burden, invites the general public and other Federal agencies to comment on a proposed information collection, as required by the Paperwork Reduction Act of 1995, Public Law 104-13. The Bureau is soliciting comments regarding a proposed information collection to identify financial education strategies that are effective in educating consumers to make better informed financial decisions, pursuant to the Bureau's authorities under the Dodd-Frank Wall Street Reform and Consumer Protection Act, Public Law 111-203.

DATES: Written comments are encouraged and must be received on or before March 19, 2012 to be assured of consideration.

ADDRESSES: You may submit comments, identified by docket number CFPB-2012-0003, by any of the following methods:

• Electronic: http://www.regulations.gov. Follow the instructions for submitting comments.

• Mail: Chris Willey, Consumer Financial Protection Bureau, 1500 Pennsylvania Avenue NW. (Attn: 1801 L Street), Washington, DC 20220.

• Hand Delivery/Courier in Lieu of Mail: Chris Willey, Consumer Financial Protection Bureau, 1801 L Street NW., Washington, DC 20036.

All submissions must include the agency name and docket number for this notice. In general all comments received will be posted without change to http://www.regulations.gov. In addition, comments will be available for public inspection and copying at 1700 G Street NW., Washington, DC 20006 on official business days between the hours of 10 a.m. and 5 p.m. Eastern Time. You can make an appointment to inspect comments by telephoning (202) 435-7275. All comments, including attachments and other supporting materials, will become part of the public record and subject to public disclosure. You should submit only information that you wish to make available publicly.

FOR FURTHER INFORMATION CONTACT: Requests for additional information should be directed to Monica Jackson, Consumer Financial Protection Bureau, (202) 435-7275.

SUPPLEMENTARY INFORMATION: Title: Clearance for Financial Education Program Evaluation.

OMB Number: 3170-XXXX.

Summary of Collection: Under the Dodd-Frank Wall Street Reform and Consumer Protection Act, Public Law 111-203, the Bureau's Office of Financial Education (“OFE”) is responsible for developing and implementing a strategy to improve the financial literacy of consumers that includes measurable goals and initiatives, in consultation with the Financial Literacy and Education Commission, consistent with the National Strategy for Financial Literacy. The collection will focus on financial education program elements related to increasing household non-retirement savings and/or reducing financial distress.

The CFPB expects to collect quantitative and qualitative data through in-person, telephone, or Internet based surveys. The information collected through quantitative and qualitative evaluation methods will increase OFE's understanding of what interventions can improve financial decisionmaking skills and outcomes for consumers.

The core objective of the data collection is to measure the effectiveness of selected financial education programs. This data will provide useful information on evidence-based practices that can be used to improve financial education programs nationwide, leading to better financial decisionmaking outcomes for adult consumers.

Type of Review: New Collection.

Affected Public: Individuals.

Annual Burden Estimates: Below is a preliminary estimate of the aggregate burden hours for the evaluation of five (5) financial education programs.

Process | Number of respondents | Number of responses per respondent | Average burden per response (minutes) | Total burden (hours)
In-person baseline surveys | 2000 | 1 | 60 | 2000
Travel time to sites | 2000 |  | 60 | 2000
Internet or phone-based follow-up surveys | 2000 | 4 | 60 | 4000
Total |  |  |  | 8000

Request for Comments: Comments submitted in response to this notice will be summarized and/or included in the request for OMB approval. All comments will become a matter of public record. Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on respondents, including through the use of automated, electronic, mechanical, or other technological collection techniques or other forms of information technology. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: January 13, 2012.
Chris Willey,
Chief Information Officer, Consumer Financial Protection Bureau.

[FR Doc. 2012-986 Filed 1-18-12; 8:45 am]

BILLING CODE P